DEPARTMENT OF AGRICULTURE

Office of the Chief Financial Officer

Notice of Request for Revision and Extension of a Currently Approved Information Collection

AGENCY: Office of the Chief Financial Officer, USDA.

ACTION: Notice.

SUMMARY: This notice announces the Office of the Chief Financial Officer's intention to request revision and extension of the U.S. Department of Agriculture's currently approved information collection in support of debt collection, as required by the Paperwork Reduction Act of 1995, chapter 35, title 44 of the United States Code.

DATES: Comments on this notice must be received by August 15, 2005 for consideration.

ADDRESSES: Address all comments concerning this notice to Matthew Faulkner, Credit, Travel and Grants Policy Division, Office of the Chief Financial Officer, USDA, Room 3417 South Building, 1400 Independence Avenue, SW., Washington, DC 20250.

FOR FURTHER INFORMATION CONTACT: Dale Theurer on 202-720-1167, FAX 202-690-1529 or e-mail dale.theurer@usda.gov.

SUPPLEMENTARY INFORMATION: The Debt Collection Act of 1982, Public Law 97-365, 96 Stat. 1749, as amended by Public Law 98-167, 97 Stat. 1104, and the Debt Collection Improvement Act of 1996, Public Law 104-134, require that any payable monies or those that may become payable may be subject to administrative offset for the collection of a delinquent debt a person or legal entity owes to the United States. The Act covers monies from the United States under contracts and other written agreements to any person or legal entity. A legal entity is defined as an agency or subdivision of a State or local government.

Title: Debt Collection.

OMB Number: 0505-0007.

Expiration Date of Approval: September 30, 2005.

Type of Request: Extension on currently approved information collection.

Abstract: 31 U.S.C. 3716, which was enacted as part of the Debt Collection Act, authorizes the collection of debts by administrative offset. The Debt Collection Improvement Act of 1996 expanded the application of administrative offset to every instance except where a statute explicitly prohibits the use of administrative offset for collection purposes. Protection is provided to debtors by requiring that an individual debtor be given notice of a debt. The notice provides information to delinquent debtors targeted for administrative offset who want additional information, or desire to either enter into repayment agreements or request a review of an agency's determination to offset. Creditor agencies use the collected information to respond and/or to take appropriate action. If the relevant information is not collected, the creditor agencies cannot comply with the due process provision of the Debt Collection and Debt Collection Improvement Acts. Collection of information only affects delinquent debtors.

Estimate of Burden: A public reporting and record-keeping burden for this collection of information is estimated to average one hour per response.

Respondents: Delinquent Debtors.

Estimated Number of Respondents: 16,895.

Estimated Number of Responses per Respondent: 2.

Estimated Total Annual Burden on Respondents: 33,790 hours.

All responses to this notice will be summarized and included in the request for the Office of Management and Budget approval. All comments also will become a matter of public record.

Patricia E. Healy,
Acting Chief Financial Officer.

[FR Doc. 05-11839 Filed 6-15-05; 8:45 am]

BILLING CODE 3410-90-P